DEPARTMENT OF THE INTERIOR

Fish and Wildlife Service

50 CFR Part 14

[Docket No. FWS-HQ-LE-2019-0041; FF09L00200-FX-LE18110900000]

RIN 1018-BE35

Importation, Exportation, and Transportation of Wildlife, Shellfish, and Fishery Products; Importation and Exportation of Green Sea Urchins

AGENCY: Fish and Wildlife Service, Interior.

ACTION: Final rule.

SUMMARY: The U.S. Fish and Wildlife Service (Service) is amending our regulations regarding the importation and exportation of green sea urchins. We are issuing this final rule pursuant to the Agriculture Improvement Act of 2018, which includes a provision that directs the Director of the Service to revise our regulations pertaining to import/export licenses to exempt the exportation of green sea urchins under certain circumstances.

DATES: This action is effective June 25, 2019.

ADDRESSES: This final rule is available on the internet at http://www.regulations.gov in Docket No. FWS-HQ-LE-2019-0041.

FOR FURTHER INFORMATION CONTACT: Dan Coil, Special Agent in Charge, Branch of Investigations, U.S. Fish and Wildlife Service, Office of Law Enforcement, (703) 358-1949.

SUPPLEMENTARY INFORMATION:

Background

On December 20, 2018, Congress passed the Agriculture Improvement Act of 2018, P.L. 115-334, 132 Stat. 4490. Section 12617 of the Act, “Exemption of exportation of certain echinoderms from permission and licensing requirements,” requires the Service to amend its regulations in title 50 of the Code of Federal Regulations at 50 CFR 14.92 to add an exemption for green sea urchins. In particular, Congress directed the Service to add an exemption for “members of the species Strongylocentrotus droebachiensis (commonly known as the “green sea urchin”)” and any products of that species that are harvested in U.S. waters or imported for processing pursuant to an import license, and then exported for human or animal consumption, and that otherwise do not require a permit. See section 12617(c) of the Agriculture Improvement Act of 2018, Public Law 115-334, 132 Stat. 4490 (2018).

Section 12617 of the Agriculture Improvement Act of 2018 also prohibits application of the regulatory exemptions to persons who have been convicted of certain Federal wildlife laws within the last 5 years. (Sec. 12617(b)(2)). In addition, the regulatory exemptions will not apply in States if the State agencies that regulate or oversee the fisheries where green sea urchins are harvested have not submitted certain conservation and management data to the Interstate Fisheries Management Program Policy Board of the applicable Marine Fisheries Commission. A State may also be excluded if the applicable Marine Fisheries Commission determines that the information provided fails to prove that the State is engaged in “conservation and management” of the green sea urchin. (Sec. 12617(d)).

This Rule

The current regulations in 50 CFR part 14 provide requirements for importation, exportation, and transportation of wildlife. The regulations at 50 CFR 14.92 list four exemptions to the import/export license requirement, including an exemption for certain shellfish and nonliving fishery products that are imported or exported for purposes of human or animal consumption or taken in waters under the jurisdiction of the United States or on the high seas for recreational purposes.

Per direction of the Agriculture Improvement Act of 2018, we now amend the regulations at 50 CFR 14.92. The rule language at the end of this document precisely tracks the language of the Agriculture Improvement Act of 2018, with only minor formatting modifications appropriate for inclusion as regulatory language.

Accordingly, this final rule adds a fifth exemption to 50 CFR 14.92 for certain green sea urchins (Strongylocentrotus droebachiensis), including any products of that species, that are taken in waters under the jurisdiction of the United States, or are imported into the United States for processing and are exported for purposes of human or animal consumption. This final rule also incorporates the two statutory exceptions to the new exemption from the import/export license requirement. First, § 14.92(a)(5)(ii) provides that the exemption does not apply to any person who has been convicted of one or more violations of a Federal law relating to the importation, transportation, or exportation of wildlife during the previous 5 years. Second, § 14.92(a)(5)(iii) provides that the exemption does not apply in a State that fails to transmit data as required by section 12617(d) of the Agriculture Improvement Act of 2018, or if the applicable Marine Fisheries Commission determines that the data transmitted fails to prove that the State is engaged in conservation and management of the green sea urchin.

Effective Date

This final rule is effective upon publication in the Federal Register. Section 12617 of subtitle F, General Provisions, of Public Law 115-334, directs the Director of the U.S. Fish and Wildlife Service to issue, within 90 days of enactment of the law, this final rule.

Required Determinations

This rulemaking implements section 12617 of subtitle F of Public Law 115-334. Issuance of this rule is a nondiscretionary act for the U.S. Fish and Wildlife Service. Therefore, the promulgation of this rule is not subject to any other provision of statute or regulation that applies to the issuance of Federal rules. Accordingly, in issuing this rule, the Service has not made and is not required to make determinations otherwise required by statute, regulation, or Executive Order for the promulgation of Federal rules.

List of Subjects in 50 CFR Part 14

Animal welfare, Exports, Fish, Imports, Labeling, Reporting and recordkeeping requirements, Transportation, Wildlife.

Regulation Promulgation

For the reasons described above, we hereby amend part 14, subchapter B of chapter I, title 50 of the Code of Federal Regulations as set forth below.

PART 14—IMPORTATION, EXPORTATION AND TRANSPORTATION OF WILDLIFE

1. The authority citation for part 14 is revised to read as follows:

Authority: 16 U.S.C. 668, 704, 712, 1382, 1538(d)-(f), 1540(f), 3371-3378, 4223-4244, and 4901-4916; 18 U.S.C. 42; 31 U.S.C. 9701; Pub. L. 115-334, 132 Stat. 4490.

2. Amend § 14.92 by adding paragraph (a)(5) to read as follows:

§ 14.92 What are the exemptions to the import/export license requirement?

(a) * * *

(5)(i) Except as provided in paragraphs (a)(5)(ii) and (iii) of this section, green sea urchins, Strongylocentrotus droebachiensis, including any products of that species, that:

(A) Do not require a permit under part 16, 17, or 23 of this subchapter;

(B) Are taken in waters under the jurisdiction of the United States or are imported into the United States for processing pursuant to the licensing requirements of § 14.91; and

(C) Are exported for purposes of human or animal consumption.

(ii) The exemption in paragraph (a)(5)(i) of this section does not apply to any person who has been convicted of one or more violations of a Federal law relating to the importation, transportation, or exportation of wildlife during the previous 5 years.

(iii) The exemption in paragraph (a)(5)(i) of this section does not apply in any State that does not annually provide “conservation and management” data, as defined in section 3 of the Magnuson-Stevens Fishery Conservation and Management Act (16 U.S.C. 1802), to the applicable Marine Fisheries Commission, or, if the State does provide the “conservation and management” data, and the applicable Marine Fisheries Commission determines, in consultation with the primary research agency of such Commission, after notice and an opportunity to comment, that the data fails to prove that the State agency or official is engaged in conservation and management of the green sea urchin.

* * * * *

Dated: June 18, 2019.
Ryan Hambleton,
Deputy Assistant Secretary for Fish and Wildlife and Parks.

[FR Doc. 2019-13492 Filed 6-24-19; 8:45 am]

BILLING CODE 4333-15-P